DEPARTMENT OF COMMERCE

International Trade Administration

[C-507-601]

Certain Roasted In-Shell Pistachios from Iran: Rescission of Countervailing Duty Administrative Review:

AGENCY: Import Administration, International Trade Administration, Department of Commerce.

EFFECTIVE DATE: March 30, 2007.

FOR FURTHER INFORMATION CONTACT: Darla Brown, AD/CVD Operations, Office 3, Import Administration, U.S. Department of Commerce, Room 4012, 14th Street and Constitution Avenue, NW, Washington, DC 20230; telephone: (202) 482-2849.

SUPPLEMENTARY INFORMATION:

Background

On October 2, 2006, the Department of Commerce (the Department) published a notice of opportunity to request an administrative review of the countervailing duty (CVD) order on certain roasted in-shell pistachios (roasted pistachios) from Iran for the period January 1, 2005 through December 31, 2005. See Antidumping or Countervailing Duty Order, Finding, or Suspended Investigation; Opportunity to Request Administrative Review, 71 FR 57920 (October 2, 2006). On October 13, 2006, the California Pistachio Commission (the CPC) requested an administrative review of Tehran Negah-Nima Trading Company, Inc. (Nima), all of the growers and processors of the roasted pistachios that Nima sold in the United States, and the Government of Iran, for the calendar year 2005 period of review. On November 27, 2006, the Department initiated an administrative review of the CVD order on certain roasted pistachios from Iran, covering the period January 1, 2005 through December 31, 2005, and Nima. See Initiation of Antidumping and Countervailing Duty Administrative Reviews and Request for Revocation in Part, 71 FR 68535 (November 27, 2006).

Rescission of Review

Pursuant to 19 CFR 351.213(d)(1), the Secretary will rescind an administrative review, in whole or in part, if a party that requested a review withdraws the request within 90 days of the date of publication of the notice of initiation of the requested review. On February 20, 2007, the CPC withdrew its request for an administrative review within 90 days of the publication of the notice of initiation of this review. No other interested party requested a review of Nima. Therefore, in accordance with 19 CFR 351.213(d)(1), and consistent with its practice, the Department hereby rescinds the administrative review of roasted pistachios from Iran for the period January 1, 2005, to December 31, 2005. The Department intends to issue assessment instructions to U.S. Customs and Border Protection 15 days after the publication of this notice of rescission of administrative review.

This notice is in accordance with section 777(i) of the Tariff Act of 1930, as amended, and 19 CFR 351.213(d)(4).

Dated: March 23, 2007.
Stephen J. Claeys,
Deputy Assistant Secretary for Import Administration.

[FR Doc. E7-5863 Filed 3-29-07; 8:45 am]

BILLING CODE 3510-DS-S